DEPARTMENT OF HOMELAND SECURITY

Federal Emergency Management Agency

[Docket ID FEMA-2017-0002; Internal Agency Docket No. FEMA-B-1710]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before August 17, 2017.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1710, to Rick Sacbibit, Chief, Engineering Services Branch, Federal Insurance and Mitigation Administration, FEMA, 400 C Street SW., Washington, DC 20472, (202) 646-7659, or (email) patrick.sacbibit@fema.dhs.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. For communities with multiple ongoing Preliminary studies, the studies can be identified by the unique project number and Preliminary FIRM date listed in the tables. Additionally, the current effective FIRM and FIS report for each community are accessible online through the FEMA Map Service Center at www.msc.fema.gov for comparison.

(Catalog of Federal Domestic Assistance No. 97.022, “Flood Insurance.”)

Dated: May 2, 2017.
Roy E. Wright,
Deputy Associate Administrator for Insurance and Mitigation, Department of Homeland Security, Federal Emergency Management Agency.

I. Watershed-based studies:

Community | Community map repository address
Upper Little Blue Watershed
Maps Available for Inspection Online at: http://www.fema.gov/preliminaryfloodhazarddata
Adams County, Nebraska and Incorporated Areas
City of Hastings | 220 North Hastings Avenue, Hastings, NE 68901.
Unincorporated Areas of Adams County | 415 North Adams Central Avenue, Juniata, NE 68955.
Village of Ayr | 4075 West Lincoln Street, Ayr, NE 68925.
Village of Holstein | 9710 South Main Avenue, Holstein, NE 68950.
Village of Juniata | 911 North Juniata Avenue, Juniata, NE 68955.
Village of Kenesaw | 109 North Smith Avenue, Kenesaw, NE 68956.
Village of Roseland | 9230 South Lincoln Avenue, Roseland, NE 68973.
Village of Trumbull | 131 Main Street, Trumbull, NE 68980.
Clay County, Nebraska and Incorporated Areas
City of Clay Center | City Office, 219 West Fairfield Street, Clay Center, NE 68933.
City of Edgar | City Office, 508 3rd Street, Edgar, NE 68935.
City of Fairfield | City Office, 302 D Street, Fairfield, NE 68938.
City of Sutton | City Office, 107 West Grove Street, Sutton, NE 68979.
Unincorporated Areas of Clay County | Clay County Courthouse, 111 West Fairfield Street, Clay Center, NE 68933.
Village of Deweese | Village Office, 101 Lena Street, Deweese, NE 68934.
Village of Saronville | Village Office, 102 North Main Street, Saronville, NE 68975.
Village of Trumbull | Village Office, 131 Main Street, Trumbull, NE 68980.

Community | Community map repository address
Tualatin Watershed
Maps Available for Inspection Online at: http://www.fema.gov/preliminaryfloodhazarddata
Washington County, Oregon and Incorporated Areas
City of Beaverton | Community Development Department, 12725 Southwest Millikan Way, Beaverton, OR 97005.
City of Forest Grove | City Hall, 1924 Council Street, Forest Grove, OR 97116.
City of Hillsboro | Civic Center, 150 East Main Street, Hillsboro, OR 97123.
City of King City | City Hall, 15300 Southwest 116th Avenue, King City, OR 97224.
City of North Plains | City Hall, 31360 Northwest Commercial Street, North Plains, OR 97133.
City of Sherwood | City Hall, 22560 Southwest Pine Street, Sherwood, OR 97140.
City of Tigard | City Hall, 13125 Southwest Hall Boulevard, Tigard, OR 97223.
City of Tualatin | City Hall, 18880 Southwest Martinazzi Avenue, Tualatin, OR 97062.
Unincorporated Areas of Washington County | Washington County Public Services Building, 155 North First Avenue, Suite 350, Hillsboro, OR 97124.

II. Non-watershed-based studies:

Community | Community map repository address
Lincoln County, Missouri and Incorporated Areas
Maps Available for Inspection Online at: http://www.fema.gov/preliminaryfloodhazarddata
Project: 16-07-1461S Preliminary Date: September 30, 2016
City of Moscow Mills | City Hall, 995 Main Street, Moscow Mills, MO 63362.
City of Troy | City Hall, 800 Cap Au Gris Street, Troy, MO 63379.
Unincorporated Areas of Lincoln County | Lincoln County Offices, 250 West College Street, Troy, MO 63379.

Community | Community map repository address
Tillamook County, Oregon and Incorporated Areas
Maps Available for Inspection Online at: http://www.fema.gov/preliminaryfloodhazarddata
Project: 11-10-0349S Preliminary Date: December 9, 2016
City of Bay City | City Hall, 5525 B Street, Bay City, OR 97107.
City of Garibaldi | City Hall, 107 6th Street, Garibaldi, OR 97118.
City of Manzanita | City Hall, 543 Laneda Avenue, Manzanita, OR 97130.
City of Nehalem | City Hall, 35900 8th Street, Nehalem, OR 97131.
City of Rockaway Beach | City Hall, 276 Highway 101 South, Rockaway Beach, OR 97136.
City of Wheeler | City Hall, 775 Nehalem Boulevard, Wheeler, OR 97147.
Unincorporated Areas of Tillamook County | Tillamook County Courthouse, 201 Laurel Avenue, Tillamook, OR 97141.

Community | Community map repository address
Mason County, Washington and Incorporated Areas
Maps Available for Inspection Online at: http://www.fema.gov/preliminaryfloodhazarddata
Project: 11-10-0427S Preliminary Date: August 30, 2016
City of Shelton | City Hall, 525 West Cota Street, Shelton, WA 98584.
Skokomish Indian Tribe | Skokomish Tribal Center, 80 North Tribal Center Road, Skokomish Nation, WA 98584.
Squaxin Island Tribe | Squaxin Island Tribal Center, 10 Southeast Squaxin Lane, Shelton, WA 98584.
Unincorporated Areas of Mason County | Mason County Public Works, 100 West Public Works Drive, Shelton, WA 98584.

Community | Community map repository address
Marathon County, Wisconsin and Incorporated Areas
Maps Available for Inspection Online at: http://www.fema.gov/preliminaryfloodhazarddata
Project: 16-05-1484S Preliminary Date: December 1, 2016
City of Schofield | Public Works, 200 Park Street, Schofield, WI 54476.
City of Wausau | City Inspections Department, 407 Grant Street, Wausau, WI 54403.
Unincorporated Areas of Marathon County | Marathon County Conservation, Planning and Zoning Office, 210 River Drive, Wausau, WI 54403.
Village of Rothschild | Village Hall, 211 Grand Avenue, Rothschild, WI 54474.

[FR Doc. 2017-10176 Filed 5-18-17; 8:45 am]

BILLING CODE 9110-12-P